ENVIRONMENTAL PROTECTION AGENCY

[EPA-HQ-OECA-2014-0047; FRL-9985-96-OEI]

Information Collection Request Submitted to OMB for Review and Approval; Comment Request; NSPS for Municipal Solid Waste Landfills (Renewal)

AGENCY: Environmental Protection Agency (EPA).

ACTION: Notice.

SUMMARY: The Environmental Protection Agency (EPA) has submitted an information collection request (ICR), NSPS for Municipal Solid Waste Landfills (EPA ICR No. 1557.10, OMB Control No. 2060-0220), to the Office of Management and Budget (OMB) for review and approval in accordance with the Paperwork Reduction Act. This is a proposed extension of the ICR, which is currently approved through November 30, 2018. Public comments were previously requested, via the Federal Register on June 29, 2017, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 26, 2018.

ADDRESSES: Submit your comments, referencing Docket ID Number EPA-HQ-OECA-2014-0047, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Municipal Solid Waste (MSW) apply to MSW landfills for which construction, modification, or reconstruction commences either on or after May 30, 1991. A MSW landfill is an entire disposal facility in a contiguous geographical space where household waste is placed in or on. An MSW landfill may also receive other types of RCRA Subtitle D wastes (§ 257.2 of this title) such as commercial solid waste, nonhazardous sludge, conditionally exempt small quantity generator waste, and industrial solid waste. Portions of an MSW landfill may be separated by access roads. An MSW landfill may be publicly or privately owned, and may be a new landfill, an existing landfill, or a lateral expansion.

On August 29, 2016 (81 FR 59332), EPA finalized a new NSPS subpart (40 CFR part 60, subpart XXX) based on its review of subpart WWW. Concurrently, EPA finalized revised Emissions Guidelines under a new subpart (40 CFR part 60, subpart Cf). The new Emission Guidelines apply to existing landfills accepting waste after 1987 for which construction was commenced either on or before July 17, 2014. Subpart XXX applies to MSW landfills that are new, reconstructed, or modified after July 17, 2014. The requirements in Subpart WWW mimic most of the requirements in these new rules, except for that the control threshold in new rules require controls at additional landfills beyond what Subpart WWW requires.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart WWW.

Form Numbers: None.

Respondents/affected entities: Municipal Solid Waste (MSW) Landfills.

Respondent's obligation to respond: Mandatory (40 CFR part 60, subpart WWW).

Estimated number of respondents: 661 (total).

Frequency of response: Annually.

Total estimated burden: 760 hours (per year). Burden is defined at 5 CFR 1320.3(b).

Total estimated cost: $86,600 (per year); there are no annualized capital/startup and/or operation & maintenance costs.

Changes in the Estimates: There is a decrease in the burden hours and the Capital/O&M costs in this ICR compared to the previous ICR. The change in burden and cost estimates occurred as a result of the 2016 NSPS (40 CFR part 60, subpart XXX) and Emissions Guidelines (40 CFR part 60, subpart Cf). Most of the burden previously attributed to the ICR for subpart WWW has been accounted for in the 2016 ICRs for both subparts XXX (ICR 2498.03, OMB 2060-0697) and Cf (ICR 2522.02, OMB 2060-0720) to avoid duplication of burden for identical requirements. There is an increase in number of responses compared to the previous ICR. While this ICR does not duplicate responses for the 2016 ICRs, each respondent was counted as a respondent that does not report but maintains records under subpart WWW and this resulted in an increase number of responses.

Courtney Kerwin,
Director, Regulatory Support Division.

[FR Doc. 2018-25672 Filed 11-23-18; 8:45 am]

BILLING CODE 6560-50-P